DEPARTMENT OF DEFENSE

Office of the Secretary

32 CFR Part 149

[Docket ID: DOD-2017-OS-0050]

RIN 0790-AJ59

Policy on Technical Surveillance Countermeasures

AGENCY: Under Secretary of Defense for Intelligence, DoD.

ACTION: Final rule.

SUMMARY: This final rule removes DoD's regulation concerning the Technical Surveillance Countermeasures (TSCM) Program. DoD originally determined that rulemaking was required based on the portion of this part that speaks to providing assistance to non-DoD agencies. However, this part places no burden on other agencies. The description of the relationship with other agencies is in accordance with federal law, and this part is unnecessary. Therefore, this part can be removed from the CFR.

DATES: This rule is effective on June 14, 2018.

FOR FURTHER INFORMATION CONTACT: Richard Davison, 703-697-4850.

SUPPLEMENTARY INFORMATION: It has been determined that publication of this CFR part removal for public comment is impracticable, unnecessary, and contrary to public interest since it is based on removing DoD internal policies and procedures that are publically available on the Department's issuance website.

This part contains internal DoD requirements and thus, does not fiscally impact parties outside of DoD. DoD's internal DoD Instruction 5240.05, “Technical Surveillance Countermeasures (TSCM),” remains in effect exclusively for the management of TSCM in DoD and is available at http://www.esd.whs.mil/Portals/54/Documents/DD/issuances/dodi/524005_2014.pdf.

This rule is not significant under Executive Order (E.O.) 12866, “Regulatory Planning and Review,” therefore, E.O. 13771, “Reducing Regulation and Controlling Regulatory Costs” does not apply.

List of Subjects in 32 CFR Part 149

Classified information, Investigations.

PART 149—[REMOVED]

Accordingly, by the authority of 5 U.S.C. 301, 32 CFR part 149 is removed.

Dated: June 11, 2018.
Shelly E. Finke,
Alternate OSD Federal Register Liaison Officer, Department of Defense.

[FR Doc. 2018-12778 Filed 6-13-18; 8:45 am]

BILLING CODE 5001-06-P